DEPARTMENT OF TRANSPORTATION

Federal Aviation Administration

Agency Information Collection Activities: Requests for Comments; Clearance of Renewed Approval of Information Collection: Certification of Airmen for the Operation of Light-Sport Aircraft

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 27, 2018.

This collection involves the submission of forms and other reporting and recordkeeping activities. The information to be collected is necessary to ensure compliance with regulations governing the manufacture and certification of light-sport aircraft, the training and certification of light-sport pilots and instructors, and the certification of light-sport aircraft Designated Pilot Examiners.

DATES: Written comments should be submitted by November 30, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0690.

Title: Certification of Airmen for the Operation of Light-Sport Aircraft.

Form Numbers: FAA Form 8130-15, 8710-11, 8710-12

Type of Review: Renewal of an information collection.

Background: The Federal Register Notice with a 60-day comment period soliciting comments on the following collection of information was published on August 27, 2018 (83 FR 43725). That rule generated a need for new designated pilot examiners and designated airworthiness representatives to support the certification of new light-sport aircraft, pilots, flight instructors, and ground instructors. This information collection requires applicants for certification as sport pilots to complete FAA form 8710-11, log training, take and pass a knowledge test, and requires organizations to develop and maintain training courses for sport pilots.

This collection also requires light-sport aircraft owners and manufacturers to submit FAA form 8130-15, which is used to process an applicant's request to obtain a Special Airworthiness certificate for Light Sport Aircraft. FAA Airworthiness inspectors and designated inspectors review the required data submissions to determine that aviation products and their manufacturing facilities comply with ASTM requirements, and that the products have no unsafe features

Finally, this collection requires applicants for the authorities and privileges of Designated Pilot Examiners to submit FAA form 8710-12, Light-Sport Standardization Board-Designated Pilot Examiner Candidate Application.

Respondents: Manufacturers, aircraft owners, pilots, flight instructors with a sport pilot rating, and maintenance personnel.

Frequency: Information is collected on occasion.

Estimated Average Burden per Response: 2.2 Hours.

Estimated Total Annual Burden: Sport pilot applicants: 3,289 hours. Sport pilot instructor applicants: 1,176 hours. Special Light-Sport Airworthiness certification applicants: 3,782 hours. Designated Pilot Examiner applicants: 20 hours. Total burden: 8,267.

Issued in Washington, DC, on October 24, 2018.
Barbara Hall,
FAA Information Collection Clearance Officer, Performance, Policy, and Records Management Branch, ASP-110.

[FR Doc. 2018-23721 Filed 10-30-18; 8:45 am]

BILLING CODE 4910-13-P